DEPARTMENT OF THE INTERIOR

Bureau of Land Management

[NM-952-03-1420-BJ]

Notice of Filing of Plats of Survey, New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

Indian Meridian, Oklahoma

T. 7 N., R. 12 W., approved April 1, 2003, for Group 62 OK;

T. 13 N., R. 23 E., approved June 16, 2003, for Group 95 OK;

Supplemental Plat for

T. 27 N., R. 10 W., approved June 2, 2003, for OK;

Informative Traverse for

T. 7 S., R. 10 W., approved April 17, 2003, NM; for Group 967 NM;

Protraction Diagrams for

T. 18 S., R. 10 E., approved June 12, 2003, NM;

T. 17 S., R. 10 E., approved June 16, 2003, NM;

T. 10 S., R. 11 E., approved June 12, 2003, NM;

New Mexico Principal Meridian, New Mexico

T. 10 S., R. 9 W., approved May 29, 2003, for Group 915 NM;

T. 23 N., R. 6 W., approved April 29, 2003, for Group 1002 NM.

If a protest against a survey, as shown on any of the above plats is received prior to the date of official filing, the filing will be stayed pending consideration of the protest. A plat will not be officially filed until the day after all protests have been dismissed and become final of appeals form the dismissal affirmed.

A person or party who wishes to protest against any of these surveys must file a written protest with the NM State Director, Bureau of Land Management, stating that they wish a protest.

A statement of reasons for a protest may be filed with the notice of protest to the State Director, or the statement of reasons must be filed with the State Director within thirty (30) days after the protest is filed. The above-listed plats represent dependent resurveys, surveys, and subdivisions.

FOR FURTHER INFORMATION CONTACT: These plats will be available for inspection in the New Mexico State Office, Bureau of Land Management. PO Box 27115, Santa Fe, New Mexico, 87502-0115. Copies may be obtained from this office upon payment of $1.10 per sheet.

Dated: June 17, 2003.
Robert A. Casias,
Chief Cadastral Surveyor.

[FR Doc. 03-16180 Filed 6-25-03; 8:45 am]

BILLING CODE 4310-FE-M